COMMODITY FUTURES TRADING COMMISSION

Sunshine Act Meetings

TIME AND DATE: 1:00 p.m., Monday, September 30, 2019.

PLACE: Three Lafayette Centre, 1155 21st Street NW, Washington, DC, 9th Floor Commission Conference Room.

STATUS: Closed.

MATTERS TO BE CONSIDERED: Examinations and enforcement matters. In the event that the time, date, or location of this meeting changes, an announcement of the change, along with the new time, date, and/or place of the meeting will be posted on the Commission's website at https://www.cftc.gov/.

CONTACT PERSON FOR MORE INFORMATION: Christopher Kirkpatrick, 202-418-5964.

Authority: 5 U.S.C. 552b.

Dated: September 18, 2019.
Christopher Kirkpatrick,
Secretary of the Commission.

[FR Doc. 2019-20509 Filed 9-18-19; 11:15 am]

BILLING CODE 6351-01-P